Title 3—

The President

Proclamation 10864 of November 22, 2024

National Family Week, 2024

By the President of the United States of America

A Proclamation

My Dad taught me that family is the beginning, the middle, and the end. It is everything. During National Family Week, we celebrate the love shared by millions of American families, and we recommit to uplifting them, so that more families can build their American Dream together.

Since I came into office, I have been determined to give hardworking families a little more breathing room and a fair shot at achieving their dreams. That work began with building an economy that would strengthen our middle class. My American Rescue Plan kept millions of families afloat during the pandemic, ensuring they could stay in their homes and put food on their tables. It also delivered the largest-ever Child Tax Credit, which helped tens of millions of working families with the costs of raising children and cut child poverty nearly in half. My Bipartisan Infrastructure Law created jobs rebuilding our Nation's infrastructure—from strengthening our roads, bridges, and ports to removing lead pipes from our homes and expanding access to high-speed internet. My CHIPS and Science Act is revitalizing American manufacturing, and, throughout my Administration, we have created over 1.6 million manufacturing and construction jobs. And my Inflation Reduction Act made healthcare more affordable for families, saving millions of them an average of $800 per year on their health insurance premiums. It will also cap the cost of out-of-pocket prescription drug costs at $2,000 per year for seniors on Medicare, easing their cost of care. And through my PACT Act, we are helping veterans exposed to toxic materials get the benefits they and their families deserve. And today, incomes are up almost $4,000, after adjusting for inflation, ensuring families have the breathing room they deserve.

My Administration has also been working to ensure families have the support they need to thrive while keeping them safe. I signed the Respect for Marriage Act, protecting the right to marriage for same-sex and interracial couples. I signed an Executive Order that directed the most comprehensive actions of any administration in history to make high-quality child care and long-term care more accessible and support caregivers. I took a slate of historic actions to prevent children from being placed into foster care and separated from their families without adequate justification. And I signed the most comprehensive gun reform bill in nearly three decades to end the scourge of gun violence ripping apart our families and deliver historic funding to address the youth mental health crisis.

During National Family Week, may we hold our loved ones close, both the family that have been there since the beginning and the family we have made along the way. And may we continue to fight for families—the heart and soul of our Nation.

NOW, THEREFORE, I, JOSEPH R. BIDEN JR., President of the United States of America, by virtue of the authority vested in me by the Constitution and the laws of the United States, do hereby proclaim November 24 through November 30, 2024, as National Family Week. I invite States, communities, and individuals to join together in observing this week with appropriate ceremonies and activities to honor our Nation's families.

IN WITNESS WHEREOF, I have hereunto set my hand this twenty-second day of November, in the year of our Lord two thousand twenty-four, and of the Independence of the United States of America the two hundred and forty-ninth.

[FR Doc. 2024-28331

Filed 11-29-24; 8:45 am]

Billing code 3395-F4-P